DEPARTMENT OF COMMERCE

National Oceanic and Atmospheric Administration

Notice of Availability of Draft Programmatic Environmental Assessments for Field Operations at Thirteen National Marine Sanctuaries and Two Marine National Monuments

AGENCY: Office of National Marine Sanctuaries (ONMS), National Ocean Service (NOS), National Oceanic and Atmospheric Administration (NOAA), Department of Commerce (DOC).

ACTION: Notice of availability.

SUMMARY: The National Oceanic and Atmospheric Administration (NOAA) has prepared four draft programmatic environmental assessments for the proposed continuation of field operations for each region of sites managed by the Office of National Marine Sanctuaries. The field operations support resource protection, research and education objectives as mandated by the National Marine Sanctuaries Act and as described in site-specific management plans. In each PEA, NOAA analyzes the potential effects on the human environment of two alternatives to implement field operations in the subject region. NOAA is soliciting public comment on the four regional draft programmatic environmental assessments.

DATES: Comments on these draft programmatic environmental assessments will be considered if received by September 21, 2018.

ADDRESSES: You may submit comments on these documents, identified by NOAA-NOS-2018-XXXX, by any of the following methods:

—Electronic Submission: Submit all electronic public comments via the Federal e-Rulemaking Portal. Go to www.regulations.gov/#!docketDetail;D=NOAA-NOS-2018-XXXX, click the “Comment Now!” icon, complete the required fields, and enter or attach your comments.

—Mail: Helene Scalliet, Office of National Marine Sanctuaries, 1305 East West Highway, R/ORM6, Silver Spring, MD 20910.

Instructions: Comments sent by any other method, to any other address or individual, or received after the end of the comment period, may not be considered by NOAA. All comments received are a part of the public record and will generally be posted for public viewing on www.regulations.gov without change. All personal identifying information (e.g., name, address), confidential business information, or otherwise sensitive information submitted voluntarily by the sender will be publicly accessible. NOAA will accept anonymous comments (enter “N/A” in the required fields if you wish to remain anonymous).

FOR FURTHER INFORMATION CONTACT: Helene Scalliet, Policy and Planning Division, Office of National Marine Sanctuaries at 240-533-0648 or via email at helene.scalliet@noaa.gov. Copies of the draft programmatic environmental assessments can be downloaded or viewed on the internet at www.regulations.gov (search for docket #NOAA-NOS-2018-XXXX). Copies can also be obtained by contacting the person identified under FOR FURTHER INFORMATION CONTACT.

SUPPLEMENTARY INFORMATION:

I. Background

NOAA's Office of National Marine Sanctuaries (ONMS) serves as the trustee for a network of underwater parks encompassing more than 600,000 square miles of marine and Great Lakes waters. The network includes a system of 13 national marine sanctuaries and Papahānaumokuākea and Rose Atoll marine national monuments. The National Marine Sanctuaries Act (NMSA; 16 U.S.C. 1431 et seq.) is the statute governing the National Marine Sanctuary System. The NMSA authorizes the Secretary of Commerce to designate as national marine sanctuaries areas of the marine environment or Great Lakes with special national significance due to their conservation, recreational, ecological, historical, scientific, cultural, archeological, educational or aesthetic qualities. The primary objective of the NMSA is to protect sanctuary resources, which span diverse geographic and administrative boundaries. Accordingly, ONMS subscribes to a broad and comprehensive management approach to meet the NMSA's primary objective of resource protection. Comprehensive sanctuary and monument management, described in detail in each site's management plan, serves as a framework for addressing long-term protection of a wide range of living and non-living marine resources, while allowing multiple uses of the site to the extent that they are compatible with the primary goal of resource protection. These plans are site-specific documents used by all national marine sanctuaries and the monuments for which ONMS has management responsibilities. The NMSA requires that ONMS develop and periodically review the management plans for each national marine sanctuary (Sec. 304(a)(2)(A) and (e)). Since revision of a management plan often constitutes a Federal action, ONMS typically analyzes changes to the management plan under NEPA. In many cases, this analysis does not analyze in-depth consequences of routine field operations, such as vessel operations and ongoing research programs. The draft PEAs announced through this notice are designed to analyze these routine field operations not previously adequately analyzed under the National Environmental Policy Act during the management plan review process.

Within the context of the ONMS management plans, field operations are an important component of implementing many of the actions necessary to support resource protection, research and education activities. The management plans also contain information relevant to these draft regional programmatic environmental assessments (PEAs) such as background about each sanctuary environment and its resources.

II. NOAA's Proposed Action

NOAA has prepared four draft PEAs for the proposed continuation of field operations described in management plans for each site managed by the Office of National Marine Sanctuaries. There is a draft PEA for each of the following regions: West Coast, Pacific Islands, Northeast/Great Lakes, and Southeast/Gulf of Mexico. The purpose of the underlying field operations analyzed in the draft PEAs is to support resource protection, research and education objectives as mandated by the National Marine Sanctuaries Act and as described in site-specific management plans. Field operations in ONMS-managed sites fall under 10 categories: vessel operations; vessel maintenance; aircraft operations; non-motorized craft operations; SCUBA or snorkel operations; onshore field work; deployment of autonomous underwater vehicles (AUVs)/remotely operated vehicles (ROVs)/gliders/drifters; deployment of remote sensing equipment; deployment of equipment on the seafloor; and other sampling activities. The four regional draft PEAs describe in detail the field operations taking place at each site in the next five years as well as their environmental impacts on the physical, biological, socioeconomic, maritime heritage and cultural environment.

In these documents, NOAA analyzes the potential effects of two alternatives to implement the proposed action. NOAA also intends to use these four draft PEAs as the basis for compliance under the Marine Mammal Protection Act, Endangered Species Act, Magnuson-Stevens Act, National Historic Preservation Act, and Coastal Zone Management Act. NOAA intends to finalize any necessary compliance requirements for these statutes prior to finalizing this action.

Authority: 16 U.S.C. 1431 et seq.

Thomas Culliton,
Acting Director, Office of National Marine Sanctuaries.

[FR Doc. 2018-16812 Filed 8-6-18; 8:45 am]

BILLING CODE 3510-NK-P